DEPARTMENT OF ENERGY

Federal Energy Regulatory Commission

[Docket No. RP09-194-000]

Tennessee Gas Pipeline Company; Notice of Technical Conference

March 4, 2009.

Take notice that the Commission will convene a technical conference in the above-referenced proceeding on Tuesday, March 31, 2009, at 10 a.m. (EDT), in a room to be designated at the offices of the Federal Energy Regulatory Commission, 888 First Street, NE., Washington, DC 20426.

The Commission determined to hold a technical conference to explore a proposal by Tennessee Gas Pipeline Company (Tennessee) to enhance the flexibility of shippers that using its supply area and/or market area pooling points and issues raised by that proposal including, but not limited to, the possible degradation of existing service, and the possible effects on scheduling and nomination priorities, primary firm rights, and the allocation of mainline versus receipt point capacity among proposed and existing points.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Robert McLean at (202) 502-8156 or e-mail Robert McLean@ferc.gov.

Kimberly D. Bose,
Secretary.

[FR Doc. E9-5246 Filed 3-11-09; 8:45 am]

BILLING CODE 6717-01-P